DEPARTMENT OF VETERANS AFFAIRS

Rehabilitation Research and Development Service Scientific Merit Review Board; Notice of Meeting

The Department of Veterans Affairs gives notice under Public Law 92-463 (Federal Advisory Committee Act) that the Rehabilitation Research and Development Service Scientific Merit Review Board will meet on August 16-18, 2010, at the Hyatt Regency Washington on Capitol Hill, 400 New Jersey Avenue, NW., Washington, DC, and on August 24-26, 2010, at The Fairfax at Embassy Row, 2100 Massachusetts Avenue, NW, Washington, DC, from 8 a.m. to 5:30 p.m. each day. Various subcommittees of the Board will meet. Each subcommittee meeting of the Board will be open to the public the first day for approximately one half hour from 8.a.m. to 8:30 a.m. to cover administrative matters, the general status of the program and the administrative details of the review process. The remaining portion of the meetings will be closed for the Board's review of research and development applications.

The purpose of the Board is to review rehabilitation research and development applications for scientific and technical merit and to make recommendations to the Director, Rehabilitation Research and Development Service, regarding their funding.

The reviews involve oral comments, discussion of site visits, staff and consultant critiques of proposed research protocols, and similar analytical documents that focus on the consideration of the personal qualifications, performance and competence of individual research investigators. Disclosure of such information would constitute a clearly unwarranted invasion of personal privacy. Disclosure would also reveal research proposals and research underway which could lead to the loss of these projects to third parties and thereby frustrate future agency research efforts. As provided by subsection 10(d) of Public Law 92-463, as amended, closing portions of the meeting is in accordance with 5 U.S.C. 552b(c)(6), and (c)(9)(B).

Those who plan to attend the open sessions should contact Tiffany Asqueri, Federal Designated Officer, Rehabilitation Research and Development Service (122P), Department of Veterans Affairs, 810 Vermont Avenue, NW., Washington, DC 20420, at (202) 461-1740, or e-mail at Tiffany.Asqueri@va.gov.

Dated: July 6, 2010.
By Direction of the Secretary.
Vivian Drake,
Acting Committee Management Officer.

[FR Doc. 2010-16951 Filed 7-12-10; 8:45 am]

BILLING CODE 8320-01-P